DEPARTMENT OF ENERGY

Proposed Agency Information Collection

AGENCY: Office of Small Business Innovation Research and Small Business Technology Transfer (SBIR/STTR), Office of Science, Department of Energy (DOE).

ACTION: Notice and request for comments.

SUMMARY: The DOE SBIR/STTR invites public to comment on a proposed collection of information that DOE is developing for submission to the Office of Management and Budget (OMB) pursuant to the Paperwork Reduction Act of 1995.

DATES: Comments regarding this proposed information collection must be received on or before July 23, 2021. If you anticipate difficulty in submitting comments within that period, contact the person listed in ADDRESSES as soon as possible.

ADDRESSES: Written comments may be sent to Claudia Cantoni by email at claudia.cantoni@science.doe.gov.

FOR FURTHER INFORMATION CONTACT: Requests for additional information or copies of the information collection instrument and instructions should be directed to Claudia Cantoni by email at claudia.cantoni@science.doe.gov or by phone: (240) 255-8590.

SUPPLEMENTARY INFORMATION: Comments are requested on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including the use of automated collection techniques or other forms of information technology.

This information collection request contains: (1) OMB No.: 1910-5166; (2) Information Collection Request Title: Small Business Innovation Research (SBIR) and Small Business Technology Transfer (STTR) Commercialization Survey; (3) Type of Request: Three-year extension; (4) Purpose: The DOE needs this information to satisfy the program requirements of the Small Business Act, including requirements established in the SBIR program reauthorization legislation, Public Law 106-554 and Public Law 107-50. This data will be collected by the DOE and provided to the Small Business Administration (SBA) to maintain information about SBIR/STTR awards issued through the two programs. This data will be provided by DOE based on information collected from SBIR/STTR awardees. This data will be used by DOE, SBA, and Congress to assess the commercial impact of these two programs; (5) Annual Estimated Number of Respondents: 1,200; (6) Annual Estimated Number of Total Responses: 800; (7) Annual Estimated Number of Burden Hours: 1,200; (8) Annual Estimated Reporting and Recordkeeping Cost Burden: $60,000.

Statutory Authority: Section 9 of the Small Business Act, as amended, codified at 15 U.S.C. 638(g).

Signing Authority

This document of the Department of Energy was signed on May 18, 2021, by Manny Oliver, Director, Office of Small Business Innovation Research and Small Business Technology Transfer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 18, 2021.
Treena V. Garrett,
Federal Register Liaison Officer, U.S. Department of Energy.

[FR Doc. 2021-10854 Filed 5-21-21; 8:45 am]

BILLING CODE 6450-01-P